DEPARTMENT OF COMMERCE

International Trade Administration

[A-122-857]

Certain Softwood Lumber Products From Canada: Final Results of Antidumping Duty Changed Circumstances Review

AGENCY: Enforcement and Compliance, International Trade Administration, Department of Commerce.

SUMMARY: For these final results, the U.S. Department of Commerce (Commerce) continues to find that GreenFirst Forest Products (QC) Inc. (GreenFirst QC) is the successor in interest to Rayonier A.M. Canada G.P. (RYAM).

DATES: Applicable August 21, 2023.

FOR FURTHER INFORMATION CONTACT: Zachary Shaykin, AD/CVD Operations, Office IV, Enforcement and Compliance, International Trade Administration, U.S. Department of Commerce, 1401 Constitution Avenue NW, Washington, DC 20230; telephone: (202) 482-2638.

SUPPLEMENTARY INFORMATION:

Background

On May 22, 2023, Commerce published the preliminary results ¹ of this changed circumstances review (CCR), in which Commerce preliminarily found that GreenFirst QC is the successor in interest to RYAM in the context of the antidumping duty order on certain softwood lumber products from Canada.² We provided interested parties with the opportunity to comment and request a public hearing regarding the Preliminary Results.³ On June 21, 2023, the Committee Overseeing Action for Lumber International Trade Investigations or Negotiations (the petitioner) submitted a case brief,⁴ and GreenFirst Forest Products Inc. (GreenFirst Forest Products) and GreenFirst QC (collectively, GreenFirst) submitted a letter in lieu of a case brief.⁵ On June 28, 2023, the petitioner and GreenFirst submitted letters in lieu of rebuttal briefs.⁶ On June 21, 2023, the petitioner requested a public hearing.⁷ On July 26, 2023, Commerce held a public hearing.⁸

¹ See Preliminary Results of Changed Circumstances Review: Antidumping Duty Order on Certain Softwood Lumber Products from Canada, 88 FR 32733 (May 22, 2023) (Preliminary Results).

² See Certain Softwood Lumber Products from Canada: Antidumping Duty Order and Partial Amended Final Determination, 83 FR 350 (January 3, 2018) (Order).

³ See Preliminary Results.

⁴ See Petitioner's Letter, “Case Brief,” dated June 21, 2023 (Petitioner's Case Brief).

⁵ See GreenFirst's Letter, “Letter in Lieu of Case Brief,” dated June 21, 2023 (GreenFirst's Letter-In-Lieu-Of Case Brief).

⁶ See Petitioner's Letter, “Letter in Lieu of Rebuttal Brief,” dated June 28, 2023 (Petitioner's Letter-In-Lieu-Of Rebuttal Brief); see also GreenFirst's Letter, “Letter in Lieu of Rebuttal Brief,” dated June 28, 2023 (GreenFirst's Letter-In-Lieu-Of Rebuttal Brief).

⁷ See Petitioner's Letter, “Hearing Request,” dated June 21, 2023.

⁸ See Hearing Transcript, “Changed Circumstances Review of the Antidumping Order on Certain Softwood Lumber Products from Canada,” dated August 8, 2023.

Scope of the Order

The merchandise covered by the Order is softwood lumber, siding, flooring and certain other coniferous wood (softwood lumber products). Softwood lumber products that are subject to this Order are currently classifiable under the following ten-digit HTSUS subheadings in Chapter 44: 4406.91.0000; 4407.10.01.01; 4407.10.01.02; 4407.10.01.15; 4407.10.01.16; 4407.10.01.17; 4407.10.01.18; 4407.10.01.19; 4407.10.01.20; 4407.10.01.42; 4407.10.01.43; 4407.10.01.44; 4407.10.01.45; 4407.10.01.46; 4407.10.01.47; 4407.10.01.48; 4407.10.01.49; 4407.10.01.52; 4407.10.01.53; 4407.10.01.54; 4407.10.01.55; 4407.10.01.56; 4407.10.01.57; 4407.10.01.58; 4407.10.01.59; 4407.10.01.64; 4407.10.01.65; 4407.10.01.66; 4407.10.01.67; 4407.10.01.68; 4407.10.01.69; 4407.10.01.74; 4407.10.01.75; 4407.10.01.76; 4407.10.01.77; 4407.10.01.82; 4407.10.01.83; 4407.10.01.92; 4407.10.01.93; 4407.11.00.01; 4407.11.00.02; 4407.11.00.42; 4407.11.00.43; 4407.11.00.44; 4407.11.00.45; 4407.11.00.46; 4407.11.00.47; 4407.11.00.48; 4407.11.00.49; 4407.11.00.52; 4407.11.00.53; 4407.12.00.01; 4407.12.00.02; 4407.12.00.17; 4407.12.00.18; 4407.12.00.19; 4407.12.00.20; 4407.12.00.58; 4407.12.00.59; 4407.13.0000; 4407.14.0000; 4407.19.0001; 4407.19.0002; 4407.19.0054; 4407.19.0055; 4407.19.0056; 4407.19.0057; 4407.19.0064; 4407.19.0065; 4407.19.0066; 4407.19.0067; 4407.19.0068; 4407.19.0069; 4407.19.0074; 4407.19.0075; 4407.19.0076; 4407.19.0077; 4407.19.0082; 4407.19.0083; 4407.19.0092; 4407.19.0093; 4409.10.05.00; 4409.10.10.20; 4409.10.10.40; 4409.10.10.60; 4409.10.10.80; 4409.10.20.00; 4409.10.90.20; 4409.10.90.40; 4418.30.0100; 4418.50.0010; 4418.50.0030; 4418.50.0050; and 4418.99.10.00.

Subject merchandise might be entered under the following ten-digit HTSUS subheadings in Chapter 44: 4415.20.40.00; 4415.20.80.00; 4418.99.9105; 4418.99.9120; 4418.99.9140; 4418.99.9195; 4421.99.70.40; and 4421.99.9880.

Although these HTSUS subheadings are provided for convenience and customs purposes, the written description of the scope of this Order is dispositive. For a full description of the scope of the Order, see the Issues and Decision Memorandum.⁹

⁹ See Memorandum, “Decision Memorandum for the Final Results of Changed Circumstances Review: Certain Softwood Lumber Products from Canada,” dated concurrently with, and hereby adopted by, this notice (Issues and Decision Memorandum).

Analysis of Comments Received

All issues raised by the parties in the case brief and letters in lieu of case and rebuttal briefs are addressed in the Issues and Decision Memorandum and are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Changed Circumstances Review

Upon review of the comments received,¹⁰ Commerce continues to determine that GreenFirst QC is the successor-in-interest to RYAM.

¹⁰ See Petitioner's Case Brief; see also GreenFirst's Letter-In-Lieu-Of Case Brief; Petitioner's Letter-In-Lieu-Of Rebuttal Brief; and GreenFirst's Letter-In-Lieu-Of Rebuttal Brief.

As a result of this determination, Commerce finds that entries of subject merchandise produced and/or exported by GreenFirst QC should enter the United States at the cash deposit rate assigned to RYAM in the most recently completed administrative review of the Order, which is 6.20 percent ad valorem.¹¹ Consequently, Commerce will instruct U.S. Customs and Border Protection to collect estimated antidumping duties for all shipments of subject merchandise produced and/or exported by GreenFirst QC and entered, or withdrawn from warehouse, for consumption on or after the publication date of this notice in the Federal Register at the cash deposit rate currently in effect for RYAM. This cash deposit requirement shall remain in effect until further notice.

¹¹ See Certain Softwood Lumber Products from Canada: Final Results of Antidumping Duty Administrative Review and Final Determination of No Shipments; 2021, 88 FR 50106 (August 1, 2023).

Administrative Protective Order

This notice serves as a final reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is published in accordance with sections 751(b)(1) and 777(i)(1) of the Tariff Act of 1930, as amended, and 19 CFR 351.216(b), 351.221(b), and 351.221(c)(3).

Dated: August 14, 2023.
Abdelali Elouaradia,
Deputy Assistant Secretary for Enforcement and Compliance.

Appendix

List of Topics Discussed in the Issues and Decision Memorandum

I. Summary

II. Background

III. Scope of the Order

IV. Discussion of the Issues

Comment 1: Whether Changes in Management and Ownership of GreenFirst QC's Lumber Assets Post-Acquisition Preclude Commerce From Making an Affirmative Successor-in-Interest Finding

Comment 2: Whether There Were Significant Changes to the Production Facilities of GreenFirst QC's Lumber Assets Post-Acquisition

Comment 3: Whether Commerce's Determination That Supplier Relationships Were Materially Dissimilar Pre- and Post-Acquisition Is Substantiated by Record Evidence

Comment 4: Whether the Successor-in-Interest Determination Is Moot With Regards to the Final Results in the Fourth Administrative Review of the Order

V. Recommendation

[FR Doc. 2023-17853 Filed 8-18-23; 8:45 am]

BILLING CODE 3510-DS-P